DEPARTMENT OF HOMELAND SECURITY

Coast Guard

33 CFR Part 117

[Docket No. USCG-2017-1074]

Drawbridge Operation Regulation; San Leandro Bay, Between Alameda and Bay Farm Island, CA

AGENCY: Coast Guard, DHS.

ACTION: Notice of deviation from drawbridge regulation.

SUMMARY: The Coast Guard has issued a temporary deviation from the operating schedule that governs the California Department of Transportation Highway and Bicycle drawbridges across San Leandro Bay, mile 0.0 and mile 0.1, between Alameda and Bay Farm Island, CA. The deviation is necessary to allow the bridge owner to perform major rehabilitation and maintenance. This deviation allows the bridges to remain in the closed-to-navigation position during the deviation period.

DATES: This deviation is effective from 6 a.m. on January 2, 2018 through 6 p.m. on May 27, 2018.

ADDRESSES: The docket for this deviation, USCG-2017-1074, is available at http://www.regulations.gov. Type the docket number in the “SEARCH” box and click “SEARCH.” Click on Open Docket Folder on the line associated with this deviation.

FOR FURTHER INFORMATION CONTACT: If you have questions on this temporary deviation, call or email Carl T. Hausner, Chief, Bridge Section, Eleventh Coast Guard District; telephone 510-437-3516; email Carl.T.Hausner@uscg.mil.

SUPPLEMENTARY INFORMATION: The California Department of Transportation has requested a temporary change to the operation of the Highway and Bicycle drawbridges over San Leandro Bay, mile 0.0 and mile 0.1, between Alameda and Bay Farm Island, CA. The highway drawbridge navigation span provides a vertical clearance of 20 feet above Mean High Water in the closed-to-navigation position. The bicycle drawbridge navigation span provides a vertical clearance of 26 feet above Mean High Water in the closed-to-navigation position. The draws operate as required by 33 CFR 117.193. Navigation on the waterway is commercial and recreational.

The drawspans will be secured in the closed-to-navigation position from 6 a.m. on January 2, 2018 through 6 p.m. on May 27, 2018 to allow the bridge owner to perform major rehabilitation and maintenance work, including repainting the structural steel of the highway drawbridge. A temporary platform will be installed beneath the drawspan of the highway drawbridge, reducing the vertical clearance by 3 feet. This temporary deviation has been coordinated with the waterway users. No objections to the proposed temporary deviation were raised.

Vessels able to pass through the bridges in the closed position may do so at anytime. If necessary, the draws can open on signal if at least 30 days notice is given to the bridge owner. Oakland Inner Harbor Tidal Canal can be used an alternate route for vessels unable to pass through the bridges in the closed position. The Coast Guard will also inform the users of the waterway through our Local and Broadcast Notices to Mariners of the change in operating schedule for the bridges so that vessel operators can arrange their transits to minimize any impact caused by the temporary deviation.

In accordance with 33 CFR 117.35(e), both drawbridges must return to their regular operating schedule immediately at the end of the effective period of this temporary deviation. This deviation from the operating regulations is authorized under 33 CFR 117.35.

Dated: December 14, 2017.
Carl T. Hausner,
District Bridge Chief, Eleventh Coast Guard District.

[FR Doc. 2017-27386 Filed 12-19-17; 8:45 am]

BILLING CODE 9110-04-P